Title 3—

The President

Proclamation 9567 of January 12, 2017

Establishment of the Reconstruction Era National Monument

By the President of the United States of America

A Proclamation

The Reconstruction Era, a period spanning the early Civil War years until the start of Jim Crow racial segregation in the 1890s, was a time of significant transformation in the United States, as the Nation grappled with the challenge of integrating millions of newly freed African Americans into its social, political, and economic life. It was in many ways the Nation's Second Founding, as Americans abolished slavery and struggled earnestly, if not always successfully, to build a nation of free and equal citizens. During Reconstruction, Congress passed the Thirteenth, Fourteenth, and Fifteenth constitutional amendments that abolished slavery, guaranteed due process and equal protection under the law, and gave all males the ability to vote by prohibiting voter discrimination based on race, color, or previous condition of servitude. Ultimately, the unmet promises of Reconstruction led to the modern civil rights movement a century later.

The Reconstruction Era began when the first United States soldiers arrived in slaveholding territories, and enslaved people on plantations and farms and in cities escaped from their owners and sought refuge with Union forces or in free states. This happened in November 1861 in the Sea Islands or “Lowcountry” of southeastern South Carolina, and Beaufort County in particular. Just seven months after the start of the Civil War, Admiral Samuel F. DuPont led a successful attack on Port Royal Sound and brought a swath of this South Carolina coast under Union control. The white residents (less than twenty percent of the population), including the wealthy owners of rice and cotton plantations, quickly abandoned their country plantations and their homes in the town of Beaufort as Union forces came ashore. More than 10,000 African Americans—about one-third of the enslaved population of the Sea Islands at the time—refused to flee the area with their owners.

Beaufort County became one of the first places in the United States where formerly enslaved people could begin integrating themselves into free society. While the Civil War raged in the background, Beaufort County became the birthplace of Reconstruction, or what historian Willie Lee Rose called a “rehearsal for Reconstruction.” With Federal forces in charge of the Sea Islands, the Department of the Treasury, with the support of President Lincoln and the War Department, decided to turn the military occupation into a novel social experiment, known as the Port Royal Experiment, to help former slaves become self-sufficient. They enlisted antislavery and religious societies in the North to raise resources and recruit volunteers for the effort. Missionary organizations headquartered in the Northeast established outposts in Beaufort County.

In and around Beaufort County during Reconstruction, the first African Americans enlisted as soldiers, the first African American schools were founded, early efforts to distribute land to former slaves took place, and many of the Reconstruction Era's most significant African American politicians, including Robert Smalls, came to prominence. African American political influence and land ownership endured there long after setbacks in other regions. In short, events and people from Beaufort County illustrate the most important challenges of Reconstruction—crucial questions related to land, labor, education, and politics after the destruction of slavery—and some early hopeful efforts to address them. The significant historical events that transpired in Beaufort County make it an ideal place to tell stories of experimentation, potential transformation, hope, accomplishment, and disappointment. In Beaufort County, including St. Helena Island, the town of Port Royal, and the city of Beaufort, many existing historic objects demonstrate the transformative effect of emancipation and Reconstruction.

Freed people hungered for education, as South Carolina had long forbidden teaching slaves to read and write. In 1862, Laura M. Towne and Ellen Murray from Pennsylvania were among the first northern teachers to arrive as part of the Port Royal Experiment. They established a partnership as educators at the Penn School on St. Helena Island that lasted for four decades. Charlotte Forten, a well-educated African American woman from a prominent abolitionist family in Philadelphia, joined the faculty later that year. The first classes for the former slaves were held at The Oaks plantation house, headquarters of the occupying U.S. military forces in the region. In 1863, Murray and Towne moved their school into Brick Church, a Baptist church near the center of the island. In the spring of 1864, supporters in Philadelphia purchased school buildings for Towne and Murray, and construction of Penn School began across the field from Brick Church on 50 acres of property donated by Hastings Gantt, an African American landowner.

Penn School helped many African Americans gain self-respect and self-reliance and integrate into free society. Towne and Murray strove to provide an education comparable to that offered in the best northern schools. The faculty also provided other support, including medical care, social services, and employment assistance. Penn School would evolve into the Penn Center in the 20th century, and remain a crucial place for education, community, and political organizing for decades to come. As a meeting place in the 1950s and 60s for civil rights leaders, including Dr. Martin Luther King, Jr., and the staff of the Southern Christian Leadership Conference, this historic place links the democratic aspirations of Reconstruction to those of the modern civil rights movement. Darrah Hall is the oldest standing structure on the site of the Penn School grounds. Students and community members built it around 1903, during the transition in the South from the Reconstruction Era to an era of racial segregation and political disenfranchisement.

The Brick Church where Towne and Murray held classes in 1863-64 is today the oldest church on St. Helena Island. Once freed from their owners, African Americans in Beaufort County wanted to worship in churches and join organizations they controlled. The Brick Church—also known as the Brick Baptist Church—was built by slaves in 1855 for the white planters on St. Helena Island. When the white population fled from the Sea Islands in 1861, the suddenly freed African Americans made the church their own. The Brick Church has been a place of worship and gathering ever since, and continues to serve the spiritual needs of the community to this day.

Camp Saxton in Port Royal—formerly the site of a plantation owned by John Joyner Smith—is where the First South Carolina Regiment Volunteers mustered into the U.S. Army and trained from November 1862 to January 1863. In August 1862, U.S. Brigadier General Rufus Saxton, the military governor of the abandoned plantations in the Department of the South, received permission to recruit five thousand African Americans, mostly former slaves, into the Union Army. The former slaves assumed that military service would lead to rights of citizenship. Saxton selected Captain Thomas Wentworth Higginson of the 51st Massachusetts, a former Unitarian minister, abolitionist, and human rights activist, to command the regiment. An important ally of Higginson and the African American troops was Harriet Tubman, the famed conductor on the Underground Railroad, who in May of 1862 arrived in Beaufort as part of the Port Royal Experiment and who served skillfully as a nurse at Camp Saxton.

Camp Saxton was also the location of elaborate and historic ceremonies on January 1, 1863, to announce and celebrate the issuance of the Emancipation Proclamation, which freed all slaves in states then “in rebellion” against the United States. General Saxton himself had attended church services at the Brick Church in the fall of 1862 to recruit troops and to invite everyone, African American and white, “to come to the camp . . . on New Year's Day, and join in the grand celebration.” This Emancipation Proclamation celebration was particularly significant because it occurred in Union-occupied territory in the South where the provisions of the Proclamation would actually take effect before the end of the war.

Over five thousand people, including freed men, women, and children, Union military officials, guest speakers, and missionary teachers, gathered around the speakers' platform built in a grove of live oaks near the Smith plantation house. One of the majestic witness trees has become known as the Emancipation Oak. Of all the prayers, hymns, and speeches during the three-hour ceremony, one of the most moving was the spontaneous singing of “My country, tis of thee; Sweet land of liberty” when the American flag was presented to Higginson. As part of the celebration, the military had prepared a feast of roasted oxen for all to enjoy.

The town of Beaufort was the center of the County's social, political, cultural, and economic life during the Reconstruction Era. Before the Battle of Port Royal Sound in November 1861, Beaufort was where the planters spent the summer months in their grand homes. Beaufort served as the depot for plantation supplies transported there by steamship. The Old Beaufort Firehouse, built around 1912, stands near the heart of Reconstruction Era Beaufort, across the street from the Beaufort Arsenal, and within walking distance of over fifty historic places. The Beaufort Arsenal, the location today of the Beaufort History Museum, was built in 1799, rebuilt in 1852, and renovated by the Works Progress Administration in 1934, and served historically as the home of the Beaufort Volunteer Artillery Company that fought in the Revolutionary and Civil Wars.

Several historic Beaufort properties within walking distance of the Firehouse are associated with Robert Smalls, the most influential African American politician in South Carolina during the Reconstruction Era. Robert Smalls was born in Beaufort in 1839, the son of slaves of the Henry McKee family. When Smalls was twelve years old, his owner hired him out to work in Charleston, where he learned to sail, rig, and pilot ships. In May 1862, Smalls navigated the CSS Planter, a Confederate ship, through Charleston harbor, past the guns of Fort Sumter, and turned it over to Union forces. This courageous escape made him an instant hero for the Union, and he soon began working as a pilot for the U.S. Navy. Smalls and his family used prize money awarded for the Planter to purchase the house in Beaufort once owned by the family that had owned him.

In 1864, Smalls was named to a delegation of African American South Carolinians to the Republican National Convention in Baltimore, where the delegation unsuccessfully petitioned the party to make African American enfranchisement part of its platform. Elected to the Beaufort County School Board in 1867, Smalls began his advocacy for education as the key to African American success in the new political and economic order.

In the years immediately following the end of the Civil War, the United States fiercely debated issues critical to Reconstruction. Southern Democrats tried to regain the power they held before the Civil War. The Republican majorities in the U.S. Congress rebuffed them, and proceeded to pass legislation and constitutional amendments to implement the principles of the Union victory. In 1867, Congress passed the Military Reconstruction Acts that called for military administration of southern states and new state constitutions. Voters elected Robert Smalls as a delegate to the South Carolina Constitutional Convention that met in Charleston in January 1868, where he successfully advocated for public education with compulsory attendance. The resulting constitution also provided for universal male suffrage and racial, political, and legal equality. In this new political order, Robert Smalls was elected to the South Carolina General Assembly from 1868 to 1874, first as a representative and then as a senator. In 1874, Smalls was elected to the U.S. House of Representatives, where he served five terms.

The success of Smalls and other African American lawmakers who had been enslaved only a handful of years before infuriated South Carolina's Democrats. Some of them turned to violence, carried out by the Ku Klux Klan and others. On more than one occasion, a homegrown vigilante group known as the Red Shirts terrorized Robert Smalls.

As a result of the contested Presidential and South Carolina gubernatorial elections of 1876, deals were made that effectively ended political and military Reconstruction in 1877. Smalls, however, continued to serve in Congress until 1886. He then returned to Beaufort, and served for many years as the Presidentially appointed customs collector for the Port of Beaufort.

In 1895, Smalls was elected a delegate to his second South Carolina Constitutional Convention. Twenty years after Democrats had regained control of the State government, they had figured out how to take back African Americans' rights as citizens. Smalls spoke eloquently at the Convention against this blow to democracy and representative government, but ultimately rights hard won three decades before were struck down. South Carolina voters ratified a new constitution that effectively eliminated African Americans from electoral politics and codified racial segregation in law for decades to come.

Even as Jim Crow laws and customs limited political participation and access to public accommodations, African Americans maintained visions of freedom and built strong community institutions. Ownership of land, access to education, and churches and civic organizations that took root during the Reconstruction Era laid the foundation for the modern civil rights movement.

The many objects of historic interest described above stand testament to the formative role of the Reconstruction Era—and the enormous contributions of those who made it possible—in our shared history.

WHEREAS, section 320301 of title 54, United States Code (known as the “Antiquities Act”), authorizes the President, in his discretion, to declare by public proclamation historic landmarks, historic and prehistoric structures, and other objects of historic or scientific interest that are situated upon the lands owned or controlled by the Federal Government to be national monuments, and to reserve as a part thereof parcels of land, the limits of which shall be confined to the smallest area compatible with the proper care and management of the objects to be protected;

WHEREAS, the Beaufort National Historic Landmark District, which contains many objects of historic interest including the Old Beaufort Firehouse, was designated in 1973; and the Penn School National Historic Landmark District, which also contains many objects of historic interest including Darrah Hall and the Brick Baptist Church, was designated in 1974;

WHEREAS, the Camp Saxton Site was listed in the National Register of Historic Places in 1995;

WHEREAS, portions of the former Camp Saxton Site are located today on lands administered by the U.S. Department of the Navy at Naval Support Facility Beaufort, South Carolina;

WHEREAS, Penn Center, Inc., has donated to the United States fee title to Darrah Hall at Penn Center, St. Helena Island, South Carolina, with appurtenant easements, totaling approximately 3.78 acres of land and interests in land;

WHEREAS, Brick Baptist Church has donated to the United States a historic preservation easement in the Brick Baptist Church and associated cemetery located on St. Helena Island, South Carolina, an interest in land of approximately 0.84 acres;

WHEREAS, the Paul H. Keyserling Revocable Trust and Beaufort Works, LLC, have donated to the United States fee title to the Old Beaufort Firehouse at 706 Craven Street, Beaufort, South Carolina, approximately 0.08 acres of land;

WHEREAS, the designation of a national monument to be administered by the National Park Service would recognize the historic significance of Brick Baptist Church, Darrah Hall, Camp Saxton, and the Old Beaufort Firehouse, and provide a national platform for telling the story of Reconstruction;

WHEREAS, it is in the public interest to preserve and protect these sites;

NOW, THEREFORE, I, BARACK OBAMA, President of the United States of America, by the authority vested in me by section 320301 of title 54, United States Code, hereby proclaim the objects identified above that are situated upon lands and interests in lands owned or controlled by the Federal Government to be the Reconstruction Era National Monument (monument) and, for the purpose of protecting those objects, reserve as a part thereof all lands and interests in lands owned or controlled by the Federal Government within the boundaries described on the accompanying map, which is attached to and forms a part of this proclamation. The reserved Federal lands and interests in lands encompass approximately 15.56 acres. The boundaries described on the accompanying map are confined to the smallest area compatible with the proper care and management of the objects to be protected.

All Federal lands and interests in lands within the boundaries described on the accompanying map are hereby appropriated and withdrawn from all forms of entry, location, selection, sale, or other disposition under the public land laws, from location, entry, and patent under the mining laws, and from disposition under all laws relating to mineral and geothermal leasing.

The establishment of the monument is subject to valid existing rights. If the Federal Government acquires any lands or interests in lands not owned or controlled by the Federal Government within the boundaries described on the accompanying map, such lands and interests in lands shall be reserved as a part of the monument, and objects identified above that are situated upon those lands and interests in lands shall be part of the monument, upon acquisition of ownership or control by the Federal Government.

The Secretary of the Interior shall manage the monument through the National Park Service, pursuant to applicable legal authorities, consistent with the purposes and provisions of this proclamation. The Secretary of the Interior shall prepare a management plan within 3 years of the date of this proclamation, with full public involvement, and to include coordination with Penn Center, Inc., Brick Baptist Church, the Department of the Navy, Atlantic Marine Corps Communities, LLC, the City of Beaufort, and the Town of Port Royal. The management plan shall ensure that the monument fulfills the following purposes for the benefit of present and future generations: (1) to preserve and protect the objects of historic interest associated with the monument, and (2) to interpret the objects, resources, and values related to the Reconstruction Era. The management plan shall, among other things, set forth the desired relationship of the monument to other related resources, programs, and organizations, both within and outside the National Park System.

The Secretary of the Navy, or the Secretary of the Navy's designee, shall continue to have management authority over Department of the Navy lands within the monument boundary at the Camp Saxton site, including the authority to control access to these lands. The Secretaries of the Navy and the Interior shall enter into a memorandum of agreement that identifies and assigns the responsibilities of each agency related to such lands, the implementing actions required of each agency, and the processes for resolving interagency disputes.

The National Park Service is directed to use applicable authorities to seek to enter into agreements with others to address common interests and promote management efficiencies, including provision of visitor services, interpretation and education, establishment and care of museum collections, and preservation of historic objects.

Given the location of portions of the monument on an operating military facility, the following provisions concern U.S. Armed Forces actions by a Military Department, including those carried out by the United States Coast Guard:

1. Nothing in this Proclamation precludes the activities and training of the Armed Forces; however, they shall be carried out in a manner consistent with the care and management of the objects to the extent practicable.

2. In the event of threatened or actual destruction of, loss of, or injury to a monument resource or quality resulting from an incident caused by a component of the Department of Defense or any other Federal agency, the appropriate Secretary or agency head shall promptly coordinate with the Secretary of the Interior for the purpose of taking appropriate action to respond to and mitigate the harm and, if possible, restore or replace the monument resource or quality.

3. Nothing in this proclamation or any regulation implementing it shall limit or otherwise affect the U.S. Armed Forces' discretion to use, maintain, improve, or manage any real property under the administrative control of a Military Department or otherwise limit the availability of such real property for military mission purposes.

Nothing in this proclamation shall be deemed to revoke any existing withdrawal, reservation, or appropriation; however, the monument shall be the dominant reservation.

Nothing in this proclamation shall be construed to alter the authority or responsibility of any party with respect to emergency response activities within the monument.

Warning is hereby given to all unauthorized persons not to appropriate, injure, destroy, or remove any feature of this monument and not to locate or settle upon any of the lands thereof.

IN WITNESS WHEREOF, I have hereunto set my hand this twelfth day of January, in the year of our Lord two thousand seventeen, and of the Independence of the United States of America the two hundred and forty-first.

Billing code 3295-F7-P

[FR Doc. 2017-01363

Filed 1-18-17; 8:45 a.m.]

Billing code 4310-10-C